NATIONAL SCIENCE FOUNDATION

Proposal Review Panel for Ocean Sciences; Notice of Meeting

In accordance with the Federal Advisory Committee Act (Pub. L. 92-463, as amended), the National Science Foundation announces the following meeting.

Name: Proposal Review Panel for Ocean Sciences (#10752).

Date & Time: August 14, 2006, 8 a.m.-7 p.m., August 15-16, 2006, 8 a.m.-5 p.m., August 17, 2006, 8 a.m.-3:00 p.m.

Place: Monterey Bay Aquarium Research Institute (MBARI), in Moss Landing, CA.

Type of Meeting: Open.

Contact Person: Dr. Alexandria Isern, Program Director, Division of Ocean Science, National Science Foundation, 4201 Wilson Blvd., Arlington, VA 22230.

Purpose of Meeting: To review the scope and system level implementation plans for the Ocean Observatories Initiative (OOI) including management plans and budgeting, and determine whether all major risks with his project have been identified and whether appropriate initial system development specifications has been established for each sub-element of the OOI.

Reason for Late Notice: Administrative Oversight.

Agenda: To review elements of the initial Ocean Observatories Initiative (OOI) Project Execution Plan (PEP) and the project's plans for further development of the OOI to the Preliminary Design phrase of project maturity.

August 14, 2006—Plenary session designed to orient the review panel and NSF staff to progress on high level activities related to OOI science, engineering, and management by the project staff and associated experts. Review of management issues. At the end of the day the panel will present concerns to the project team to be addressed at the start of day 2. After this presentation, the breakout groups will meet with Project leads for Level-2 Work Breakdown Structure (WBS) elements to coordinate for breakout sessions on day 2.

August 15, 2006—Break out sessions will review specific OOI WBS elements. At the end of the day the panel will present concerns to the project team to be addressed at the start of day 3. There will be a site tour of facilities and activities related to OOI on the second day.

August 16, 2006—Breakout sessions continue in the morning. Meet plenary at the end of the day to address any lingering questions of the Panel.

August 17, 2006—Review Panel drafts Critical Design review (CDR) report and presents a summary of the report findings to the project team at a closeout session.

Dated: August 8, 2006.
Susanne Bolton,
Committee Management Officer.

[FR Doc. 06-6883 Filed 8-11-06; 8:45 am]

BILLING CODE 7555-01-M